DEPARTMENT OF COMMERCE

National Oceanic and Atmospheric Administration

50 CFR Part 622

[I.D. 110502B ]

Fisheries of the Caribbean, Gulf of Mexico, and South Atlantic; Snapper Grouper Fishery of the South Atlantic Region; Amendment 13; Public Hearing; Spiny Lobster Fishery of the Gulf of Mexico and South Atlantic; Scoping Meeting

AGENCY: National Marine Fisheries Service (NOAA Fisheries), National Oceanic and Atmospheric Administration, Commerce.

ACTION: Notice of public hearing and scoping meeting.

SUMMARY: The South Atlantic Fishery Management Council (Council) will hold a public hearing to address findings from the SAW/SARC (Stock Assessment Workshop/Stock Assessment Review Committee) process for the red porgy stock assessment. The hearing will include an overview of the recent Stock Assessment Workshop findings and the conclusions from the Stock Assessment Review Committee. In addition, the Council will conduct a public scoping meeting addressing issues affecting the spiny lobster fishery.

DATES: The red porgy public hearing and the public scoping meeting for spiny lobster will be held on Monday, December 2, 2002. See SUPPLEMENTARY INFORMATION for specific times for the public hearing and the scoping meeting.

ADDRESSES: The public hearing and scoping meeting will be held in New Bern, NC (see SUPPLEMENTARY INFORMATION).

FOR FURTHER INFORMATION CONTACT: Kim Iverson, Public Information Officer, South Atlantic Fishery Management Council, One Southpark Circle, Suite 306, Charleston, SC 29407-4699; telephone: 843-571-4366; fax: 843-769-4520; email address: kim.iverson@safmc.net.

SUPPLEMENTARY INFORMATION: A 1999 stock assessment showed red porgy stocks to be overfished and emergency action was taken to restrict both the commercial and recreational fishery, including a one fish per person recreational bag limit, a 50-pound (22.7-kg) incidental catch limit for the commercial sector, and a closed commercial season from January through April. A subsequent stock assessment and review through the SAW/SARC process concluded that red porgy stocks remain overfished and the current management measures are warranted at this time. The Council is conducting the hearing in order to receive input from the public regarding these findings and obtain information regarding the effects of the current regulations. This information will be considered as the Council moves forward with the development of Amendment 13 to the Snapper Grouper Fishery Management Plan.

The scoping meeting will address issues affecting the spiny lobster fishery. These issues will include defining overfishing, possible federal regulation changes regarding the use of “shorts” or undersized lobsters used for bait by commercial harvesters, allowing the expansion of the commercial fishery north of Florida, and the distribution of tailing permits for spiny lobster.

The public hearing will be held at 6 p.m. with the public scoping meeting immediately following at the following location and date:

1. December 2, 2002: Sheraton Grand New Bern, 100 Middle Street, New Bern, NC 28560, telephone: 1-800-326-3745 or 252- 638-8112.

Special Accommodations

These meetings are physically accessible to people with disabilities. Requests for sign language interpretation or other auxiliary aids should be directed to the Council (see ADDRESSES) by November 29, 2002.

Dated: November 8, 2002.
Bruce C. Morehead,
Acting Director, Office of Sustainable Fisheries, National Marine Fisheries Service.

[FR Doc. 02-29184 Filed 11-15-02; 8:45 am]

BILLING CODE 3510-22-S